DEPARTMENT OF TRANSPORTATION

Federal Motor Carrier Safety Administration

[Docket No. FMCSA-2011-0213]

Motorcoach Safety Summit and Regional Roundtables

AGENCY: Federal Motor Carrier Safety Administration, DOT.

ACTION: Notice of meetings, request for public comment.

SUMMARY: The U.S. Department of Transportation announces that it will hold a national Motorcoach Safety Summit (National Summit), hosted by the Federal Motor Carrier Safety Administration (FMCSA) to exchange information and ideas on the best possible approaches to reduce the number of motorcoach crashes, injuries, and fatalities and raise passenger awareness. Leading up to the National Summit, the Department will hold four regional roundtable discussions. Seating is limited for all events. Individuals with diverse experience, expertise, and perspectives are encouraged to attend. Please visit our dedicated Web site at http://www.fmcsa.dot.gov/motorcoach/2011 as details for each continue to evolve.

Dates, Times, and Addresses: The first regional roundtable session will be held August 3, 2011, from 8 a.m. to noon (local time) in Dallas at the Marriott Dallas/Fort Worth Airport South, 4151 Centreport Boulevard, Fort Worth, TX 76155 (1-817-358-1700), Web page: http://www.marriott.com/hotels/travel/dfwam-dallas-fort-worth-airport-marriott-south/.

The second regional roundtable session will be held August 4, 2011, from 8 a.m. to noon (local time) in New York City at the New York Marriott Downtown, 85 West Street at Albany Street, New York, NY 10006 (1-212-385-4900), Web page: http://www.marriott.com/hotels/travel/nycws-new-york-marriott-downtown/.

The third regional roundtable session will be held August 5, 2011 from 8 a.m. to noon (local time) in Columbus, Ohio at the Hyatt Columbus Capitol Square, 75 East State Street, Columbus, OH 43215 (1-614-228-1234), Web page: http://capitolsquare.hyatt.com/hyatt/hotels/index.jsp?null.

The fourth regional roundtable session will be held August 8, 2011, from noon to 4 p.m. (local time) in Los Angeles at the Hilton Anaheim, 777 Convention Way, Anaheim, CA 92802 (1-714-750-4321), Web page: http://www.hiltonanaheimtour.com.

The National Summit will take place on September 23, 2011, in Washington, DC. FMCSA will announce the location and address for the National Summit at a later date and will post the information at http://www.fmcsa.dot.gov/motorcoach/2011.

The Department welcomes comments or questions prior to and during the National Summit and Regional Roundtables. The discussion for each Regional Roundtable session and concurrent online dialogue will center around four challenge questions:

1. How can we increase awareness of the importance of safety and enforcement among all stakeholders including industry, law enforcement, consumer groups, safety advocates, and passengers themselves?

2. What are the policy-related challenges or barriers for motorcoach safety and how do we develop opportunities to address each?

3. What are the challenges and gaps related to motorcoach education and training for representatives from the industry, law enforcement, consumer groups, safety advocates, and passengers themselves?

4. What are the challenges and limitations for passengers when considering and purchasing motorcoach services?

The challenges and strategies garnered from the different feedback avenues will be used, with national data points, to frame the conversation during the National Summit. If you would like to submit a comment or question through this Federal Register Notice, in relation to any of the challenge questions and/or otherwise, you may do so under DOT Docket ID Number FMCSA-2011-0213 by any of the following methods:

• Federal eRulemaking Portal: the Federal Docket Management System (FDMS) address: http://www.regulations.gov.

• Fax: 202-493-2251.

• Mail: Docket Management Facility (M-30), U.S. Department of Transportation, West Building Ground Floor, Room W12-140, 1200 New Jersey Avenue, SE., Washington, DC 20590-0001.

• Hand Delivery: West Building Ground Floor, Room W12-140, 1200 New Jersey Avenue, SE., Washington, DC 20590, between 9 a.m. and 5 p.m., E.T., Monday through Friday, except Federal holidays. The telephone number is 202-366-9329.

Instructions: All submissions must include the Agency name and docket number (FMCSA-2011-0213) for this announcement. To avoid duplication, please use only one of these four methods. Note that all comments and questions received will be posted without change to http://www.regulations.gov, including any personal information provided. Please refer to the Privacy Act heading for further information.

Comments received after the comment closing date will be considered and incorporated as appropriate. For questions, see FOR FURTHER INFORMATION CONTACT below.

Docket: For access to the docket to read background documents or comments received, go to http://www.regulations.gov at any time or to West Building Ground Floor, Room W12-140, 1200 New Jersey Avenue, SE., Washington, DC, between 9 a.m. and 5 p.m., E.T., Monday through Friday, except Federal holidays.

Privacy Act: Anyone may search the electronic form of all comments received into any of our dockets by the name of the individual submitting the comment (or signing the comment, if submitted on behalf of an association, business, labor union, etc.). You may review DOT's complete Privacy Act Statement in the Federal Register notice published on January 17, 2008 (73 FR 3316) at http://edocket.access.gpo.gov/2008/pdf/E8-785.pdf.

FOR FURTHER INFORMATION CONTACT: Ms. Dee Williams, Chief, Strategic Planning and Program Evaluation Division, FMCSA, telephone (202) 493-0192, or e-mail motorcoachsafetysummit@dot.gov.

SUPPLEMENTARY INFORMATION:

Background

Motorcoach transportation is one of the most cost-effective, accessible and safe forms of public transportation. The past several months, however, have seen a number of tragic crashes around the United States that involve motorcoaches and buses. The U.S. Department of Transportation, through FMCSA, is convening a series of public meetings across the country as well as a national Motorcoach Safety Summit (National Summit), to exchange information and ideas on the best possible approaches to reduce the number of motorcoach crashes, injuries, and fatalities and raise passenger awareness. These meetings and the National Summit will bring together partners and stakeholders from all sides of the motorcoach community, including senior transportation officials, elected officials, safety advocates, law enforcement representatives, private sector representatives, academics, ticket brokers, and passengers to address a range of issues related to reducing crashes, injuries, and fatalities through enforcement, public awareness, and education. They will be open and interactive and FMCSA hopes that they will foster informative dialogue and innovative ideas and approaches.

FMCSA will host the National Summit in Washington, DC on September 23, 2011. Leading up to the Summit, FMCSA will hold Regional Roundtables on August 3rd in Dallas/Ft. Worth, TX, on August 4th in New York City, NY, on August 5th in Columbus, OH, and on August 8th in Los Angeles/Anaheim, CA. These locations represent corridors with high levels of motorcoach transportation and safety concerns. These Regional Roundtable discussions will engage participants from all sides of the motorcoach communities they represent, including state and local organizations (i.e., law enforcement, industry, advocates, consumer groups) and the public. All information gathered will provide the framework for the National Summit. Goals of the National Summit include: identifying challenges, policy solutions, educational strategies, and best practices to enhance the culture of safety for the future of motorcoach transportation.

The U.S. Department of Transportation is committed to providing equal access to this National Summit. Based on limited seating and to accommodate the strong interest outside the Washington area, the National Summit will be available live by a Web cast that will comply with Section 508 of the Rehabilitation Act of 1973, as amended and members of the public will be given the opportunity to submit questions or comments online. The Department has also created a Web site to provide information and updates on the National Summit and Regional Roundtables as more details become available: http://www.fmcsa.dot.gov/motorcoach/2011.

Limited exhibit space will be available for the National Summit. Anyone who wishes to request exhibit space and/or who has questions pertaining to exhibit space should contact Ms. Dee Williams, Chief, Strategic Planning and Program Evaluation Division, FMCSA, telephone (202) 493-0192, or e-mail motorcoachsafetysummit@dot.gov.

FMCSA IdeaScale Community

In addition to the Federal Register notice where comments and questions are being accepted, FMCSA has set up an IdeaScale Community on its main Web site at http://www.fmcsa.dot.gov. This online dialogue will be driven by the same challenge questions as included under the “Background” section of this Notice. IdeaScale is a Department of Transportation initiative providing an interactive, on-line, transparent space for people to engage in conversation about draft proposals and vote if they agree or disagree.

Accessibility Needs

If you need special accommodations for the National Summit and/or the Regional Roundtables, such as sign language interpretation, please contact Ms. Dee Williams, Chief, Strategic Planning and Program Evaluation Division, FMCSA, telephone (202) 493-0192, or e-mail dee.williams@dot.gov at least forty-eight hours prior to the event, to allow us sufficient time to arrange for such services. We will make every attempt to fulfill requested accommodations.

Issued on: July 25, 2011.
William A. Bronrott,
Deputy Administrator, FMCSA.

[FR Doc. 2011-19184 Filed 7-28-11; 8:45 am]

BILLING CODE 4910-EX-P